DEPARTMENT OF THE INTERIOR

National Park Service

Notice of Intent To Issue a Temporary Concession Contract for Food and Beverage, Lodging and Merchandise Services at Oregon Caves National Monument

SUMMARY: Pursuant to the National Park Service Concessions Management Improvement Act of 1998, notice is hereby given that the National Park Service intends to issue a temporary concession contract authorizing continued operation of food and beverage, overnight lodging and merchandise services to the public within Oregon Caves National Monument. The temporary concession contract will be for a term of 5 months. This short-term concession contract is necessary to avoid interruption of visitor services while the National Park Service finalizes the development of the Prospectus to be issued for a long-term concession contract. This short-term contract will be for a one seasonal operating period ending October 31, 2002. This notice is in pursuant to 36 CFR Part 51, Section 51.24(a).

SUPPLEMENTARY INFORMATION: The previous concession contract at Oregon Caves National Monument expired on September 30, 2001. The operation is seasonal and operates primarily from mid-May through mid-September and provides visitors with lodging, food and beverage and merchandise services. The National Park Service will be issuing a Prospectus for the solicitation of a long-term concession contract to provide commercial services within the park to the visiting public. The short-term concession contract will allow for the continuation of commercial services during this interim and avoid unnecessary interruption of visitor services.

Information about this notice can be sought from: National Park Service, Chief, Concession Program Management Office, Pacific West Region, Attn: Mr. Tony Sisto, 1111 Jackson Street, Oakland, California 94607, or call (510) 817-1366.

Dated: June 6, 2002.
Patricia Neubacher,
Acting Regional Director, Pacific West Region.

[FR Doc. 02-18291 Filed 7-18-02; 8:45 am]

BILLING CODE 4310-70-P